COMMITTEE FOR PURCHASE FROM PEOPLE WHO ARE BLIND OR SEVERELY DISABLED

Procurement List; Proposed Additions

AGENCY: Committee for Purchase From People Who Are Blind or Severely Disabled.

ACTION: Proposed Additions to Procurement List.

SUMMARY: The Committee is proposing to add to the Procurement List products and services to be furnished by nonprofit agencies employing persons who are blind or have other severe disabilities.

DATES: comments must be received before 4/13/2009.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the government.

2. If approved, the action will result in authorizing small entities to furnish the products and services to the government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 6532-00-NIB-0018—Pajama Top, Men's, Small, Khaki.

NSN: 6532-00-NIB-0019—Pajama Top, Men's, Medium, Brown.

NSN: 6532-00-NIB-0020—Pajama Top, Men's, Large, Cranberry.

NSN: 6532-00-NIB-0021—Pajama Top, Men's, X-Large, Beige.

NSN: 6532-00-NIB-0022—Pajama Top, Men's, 2X-Large, Hunter Green.

NSN: 6532-00-NIB-0023—Pajama Top, Men's, 3X-Large, Navy Blue.

NSN: 6532-00-NIB-0024—Pajama Top, Men's, 4X-Large, Gray.

NSN: 6532-00-NIB-0025—Pajama Top, Men's, 5X-Large, Green.

NSN: 6532-00-NIB-0026—Pajama Pants, Men's, Small, Khaki.

NSN: 6532-00-NIB-0027—Pajama Pants, Men's, Medium, Brown.

NSN: 6532-00-NIB-0028—Pajama Pants, Men's, Large, Cranberry.

NSN: 6532-00-NIB-0029—Pajama Pants, Men's, X-Large Beige.

NSN: 6532-00-NIB-0030—Pajama Pants, Men's, 2X-Large, Hunter Green.

NSN: 6532-00-NIB-0031—Pajama Pants, Men's, 3X-Large, Navy Blue.

NSN: 6532-00-NIB-0032—Pajama Pants, Men's, 4X-Large, Gray.

NSN: 6532-00-NIB-0033—Pajama Pants, Men's, 5X-Large, Green.

NSN: 6532-00-NIB-0034—Pajamas, Men's, Komograph Stamped.

NPA: Central Association for the Blind & Visually Impaired, Utica, NY.

Contracting Activity: Veterans Affairs, Department of, Dept of Veterans Affairs, Hines, IL.

Coverage: C-list for 100% of the requirement for the Department of Veterans Affairs.

Services

Service Type/Location: Custodial Services, Fort Custer Education Center, 2501 26th Street, Augusta, MI.

NPA: Navigations, Inc., Battle Creek, MI.

Contracting Activity: Dept of the Army, XRAW8AC MIARNG Element, JF HQ, Lansing, MI.

Service Type/Location: BSC-USCG Seattle, WA, U.S. Coast Guard, Seattle, WA, U.S. Coast Guard Integrated Support Command, Seattle, WA.

NPA: The Lighthouse for the Blind, Inc. (Seattle Lighthouse), Seattle, WA.

Contracting Activity: U.S. Coast Guard, Department of Homeland Security, Seattle, WA.

Barry S. Lineback,
Director, Business Operations.

[FR Doc. E9-5469 Filed 3-12-09; 8:45 am]

BILLING CODE 6353-01-P